DEPARTMENT OF HOMELAND SECURITY

Federal Emergency Management Agency

[Docket ID FEMA-2019-0002; Internal Agency Docket No. FEMA-B-1945]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 30, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1945, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Henry County, Iowa and Incorporated Areas
Project: 16-07-2275S Preliminary Dates: April 30, 2018 and March 7, 2019
City of Mount Pleasant | City Hall, 307 East Monroe Street, Mount Pleasant, IA 52641.
City of Olds | City Hall, 111 South Main Street, Olds, IA 52647.
City of Rome | Rome City Hall, 104 East Maple Street, Mount Pleasant, IA 52641.
City of Westwood | Westwood City Hall, 3952 Sycamore Drive, Mount Pleasant, IA 52641.
City of Winfield | City Hall, 115 North Locust Street, Winfield, IA 52659.
Unincorporated Areas of Henry County | Henry County Courthouse, 100 East Washington Street, Mount Pleasant, IA 52641.
O'Brien County, Iowa and Incorporated Areas
Project: 16-07-2353S Preliminary Date: March 15, 2019
City of Calumet | City Hall, 113 West 2nd Street, Calumet, IA 51009.
City of Hartley | City Hall, 11 South Central Avenue, Hartley, IA 51346.
City of Paullina | City Hall, 127 South Main Street, Paullina, IA 51046.
City of Primghar | City Hall, 160 South Hayes Avenue, Primghar, IA 51245.
City of Sanborn | City Hall, 102 Main Street, Sanborn, IA 51248.
City of Sheldon | City Hall, 416 9th Street, Sheldon, IA 51201.
City of Sutherland | City Hall, 110 Ash Street, Sutherland, IA 51058.
Unincorporated Areas of O'Brien County | O'Brien County Courthouse, 155 South Hayes Avenue, Primghar, IA 51245.
Wapello County, Iowa and Incorporated Areas
Project: 17-07-0410S Preliminary Dates: December 17, 2018 and April 19, 2019
City of Agency | Agency City Hall, 104 East Main Street, Agency, IA 52530.
City of Chillicothe | Chillicothe City Hall, 201 Main Street, Chillicothe, IA 52548.
City of Eddyville | Eddyville City Hall, 103 Front Street, Eddyville, IA 52553.
City of Eldon | Eldon City Hall, 421 West Elm Street, Eldon, IA 52554.
City of Ottumwa | Ottumwa City Hall, 105 East 3rd Street, Ottumwa, IA 52501.
Unincorporated Areas of Wapello County | Wapello County Planning, Zoning, and Building Division, 536 Mill Street, Ottumwa, IA 52501.
Winneshiek County, Iowa and Incorporated Areas
Project: 17-07-0397S Preliminary Date: January 15, 2019
City of Calmar | City Hall, 101 South Washington Street, Calmar, IA 52132.
City of Decorah | City Hall, 400 Claiborne Drive, Decorah, IA 52101.
City of Fort Atkinson | City Hall, 98 Elm Street, Fort Atkinson, IA 52144.
City of Jackson Junction | City Hall, 1201 County Road V68, Jackson Junction, IA 52171.
City of Ossian | City Hall, 123 West Main Street, Ossian, IA 52161.
City of Spillville | Spillville Public Library, 201 Oak Street, Spillville, IA 52168.
Unincorporated Areas of Winneshiek County | Winneshiek County Courthouse, 201 West Main Street, Decorah, IA 52101.
Macomb County, Michigan (All Jurisdictions)
Project: 13-05-1847S Preliminary Date: December 18, 2018
City of New Baltimore | City Hall, 36535 Green Street, New Baltimore, MI 48047.
City of St. Clair Shores | City Hall, 27600 Jefferson Avenue, St. Clair Shores, MI 48081.
Township of Chesterfield | Municipal Offices, 47275 Sugarbush Road, Chesterfield, MI 48047.
Township of Harrison | Administrative Offices, 38151 L'Anse Creuse, Harrison Township, MI, 48045.
Wayne County, Michigan (All Jurisdictions)
Project: 13-05-4692S Preliminary Date: December 21, 2018
Charter Township of Brownstown | Charter Township Offices, 21313 Telegraph Road, Brownstown, MI 48183.
City of Detroit | Coleman A. Young Municipal Center, 2 Woodward Avenue, Suite 401, Detroit, MI 48226.
City of Ecorse | Albert B. Buday Civic Center, 3869 West Jefferson Avenue, Ecorse, MI 48229.
City of Gibraltar | City Hall, 29450 Munro Avenue, Gibraltar, MI 48173.
City of Grosse Pointe | City Hall, 17147 Maumee Avenue, Grosse Pointe, MI 48230.
City of Grosse Pointe Farms | City Hall, 90 Kerby Road, Grosse Pointe Farms, MI 48236.
City of Grosse Pointe Park | City Office, 15115 East Jefferson Avenue, Grosse Pointe Park, MI 48230.
City of River Rouge | Civic Center, 10600 West Jefferson Avenue, River Rouge, MI 48218.
City of Riverview | City Hall, 14100 Civic Park Drive, Riverview, MI 48193.
City of Rockwood | City Hall, 32409 Fort Road, Rockwood, MI 48173.
City of Trenton | City Hall, 2800 Third Street, Trenton, MI 48183.
City of Wyandotte | City Hall, 3200 Biddle Avenue, Suite 200, Wyandotte, MI 48192.
Township of Grosse Ile | Township Offices, 9601 Groh Road, Grosse Ile, MI 48138.
Village of Grosse Pointe Shores | Village Offices, 795 Lake Shore Road, Grosse Pointe Shores, MI 48236.
Yellow Medicine County, Minnesota and Incorporated Areas
Project: 14-05-4674S Preliminary Dates: August 29, 2016 and January 11, 2019
City of Canby | City Hall, 110 Oscar Avenue North, Canby, MN 56220.
City of Granite Falls | City Hall, 641 Prentice Street, Granite Falls, MN 56241.
City of Hanley Falls | City Hall, 109B 1st Street North, Hanley Falls, MN 56245.
City of Porter | City Hall, 301 Lone Tree Street, Porter, MN 56280.
City of Wood Lake | City Hall, 88 2nd Avenue West, Wood Lake, MN 56297.
Unincorporated Areas of Yellow Medicine County | Planning and Zoning Office, 1000 10th Avenue, Suite 2, Clarkfield, MN 56223.
Upper Sioux Community | Upper Sioux Community Tribal Office, 5722 Travers Lane, Granite Falls, MN 56241.
Dent County, Missouri and Incorporated Areas
Project: 17-07-0683S Preliminary Date: April 9, 2019
City of Salem | City Administration Building, 400 North Iron Street, Salem, MO 65560.
Unincorporated Areas of Dent County | Dent County Courthouse, 400 North Main Street, Salem, MO 65560.

[FR Doc. 2019-16414 Filed 7-31-19; 8:45 am]

BILLING CODE 9110-12-P